DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Continuing Education for Comparative Effectiveness Research Survey.” In accordance with the Paperwork Reduction Act of 1995, Public Law 104-13 (44 U.S.C. 3506(c)(2)(A)), AHRQ invites the public to comment on this proposed information collection.

This proposed information collection was previously published in the Federal Register on August 4th, 2014 and allowed 60 days for public comment. AHRQ did not receive any substantive comments. The purpose of this notice is to allow an additional 30 days for public comment.

DATES: Comments on this notice must be received by November 17, 2014.

ADDRESSES: Written comments should be submitted to: AHRQ's OMB Desk Officer by fax at (202) 395-6974 (attention: AHRQ's desk officer) or by email at OIRA_submission@omb.eop.gov (attention: AHRQ's desk officer).

FOR FURTHER INFORMATION CONTACT: Doris Lefkowitz, AHRQ Reports Clearance Officer, (301) 427-1477, or by email at doris.lefkowitz@AHRQ.hhs.gov.

SUPPLEMENTARY INFORMATION:

Proposed Project

Continuing Education for Comparative Effectiveness Research Survey

Patient-centered outcomes research (PCOR) is an area that has seen increased focus from research agencies and other government entities. Also known as comparative effectiveness research, PCOR is the focus of AHRQ's Effective Health Care (EHC) program, which has the mission of providing health care decisionmakers (e.g., patients, health care providers, purchasers, and policymakers) with recent evidence-based information about the harms, benefits, and effectiveness of various treatment options by comparing medical devices, surgeries, tests, drugs, or ways to deliver health care.

The EHC program was created in response to Section 1013 of the Medicare Prescription Drug, Improvement, and Modernization Act of 2003 and became the first federal program to conduct PCOR and disseminate those findings to the public. AHRQ works with researchers, academic organizations, and research centers through the EHC program on work relating to methods, training, and dissemination of products to a variety of stakeholders to help spread awareness and knowledge about PCOR. It is important for AHRQ to be able to measure the effectiveness of these products, which include training modules and publications, specifically around how they are affecting health care professionals' understanding, awareness, and use of PCOR and its related concepts. It is also important for AHRQ to be able to identify ways to improve how this information is being disseminated to the medical community.

The Continuing Education for Comparative Effectiveness Research Project is designed to provide online continuing education materials that inform physicians and other health care providers about patient-centered health research from the EHC Program, specifically comparative effectiveness research reports, and other government-funded comparative clinical effectiveness research. Online multimedia continuing education modules based on the Effective Health Care Program http://www.effectivehealthcare.ahrq.gov/tools-and-resources/cmece-activities/ comparative effectiveness research reports will be planned, developed, disseminated, and promoted. In addition, data will be collected on the modules to assess their effectiveness and impact.

This study is being conducted by AHRQ through its contractor, Hayes Inc. (Hayes) and Hayes' subcontractors, Deloitte Consulting LLP (Deloitte), pursuant to AHRQ's statutory authority to support the agency's dissemination of comparative clinical effectiveness research findings. 42 U.S.C. 299b-37(a)-(c).

Method of Collection

To achieve the goals of this project, the following data collection will be implemented: (1) Each training module will involve one follow-up questionnaire that would be administered six months after the completion of the course for the purposes of tracking the longer-term effectiveness of the modules.

This data collection will help to meet AHRQ's objectives to:

1. Understand the extent to which these online continuing education modules based on the EHC Program comparative effectiveness research reports improve knowledge of each topic and change participants' awareness of, attitude towards, and/or confidence to apply CER in their clinical practice.

2. Track information about the dissemination efforts employed for CE/CER information specific to the modules, and the uptake of AHRQ's other EHC Program materials as a result of the project, including the Clinician and Consumer Summaries when available.

3. Determine implementation practices (e.g. changes in practice behavior or implementation of the information conveyed in the modules) that occur as a result of the learning.

4. Identify opportunities for improving the presentation and delivery of CE modules by gathering information on the participants' reactions to the modules and to the faculty presenters through the post-event evaluation assessment.

AHRQ will use the information collected through this Information Collection Request to assess the short- and long-term progress in achieving the dissemination and implementation aims of the Continuing Education project.

Estimated Total Respondent Burden

Exhibit 1 provides information on the estimated time to complete the data collection survey. These educational activities are enduring training modules and will be available for a 2-year period. The AHRQ Continuing Education for Comparative Effectiveness Research Survey will be administered to each individual 6 months after completing the module. On average, respondents will spend 5 minutes completing the survey. As many as 4,400 health care professionals are expected to complete the surveys, based on an average of 2,000 health care providers taking each module with a 10% response rate, or 200; 200 × 22 modules = 4,400. On average, respondents will spend 5 minutes completing the survey. The total burden is estimated to be 367 hours.

Exhibit 1—Estimated Respondent Burden
Estimated number of respondents | Average burden per respondent (minutes) | Total burden (minutes) | Number of responses per respondent | Total respondent burden (minutes) | Total burden per respondent (minutes) | Total respondent burden (hours)
A | B | C (A*B) | D | E (C*D) | F (B*D) | G (E/60)
4400 | 5 | 22,000 | 1 | 22,000 | 5 | 367

Exhibit 2—Estimated Cost Burden
Form name | Number of respondents | Total burden hours | Average hourly wage rate * | Total cost burden
AHRQ Online CME/CE 6-Month Evaluation | 4,400 | 367 | $49.83 | $18,288
Total | 4,400 | 367 | N/A | 18,288
* Based upon the mean of the average hourly wages for Physicians (29-1069; $92.25), Pharmacists (29-1051; $56.01), Physician Assistants (29-1071; $45.36), Nurse Practitioners (29-1171; $45.71), Registered Nurses (29-1111; $33.13), and Healthcare Practitioners (29-9099; $26.54), May 2013 National Occupational Employment and Wage Estimates, United States, U.S. Department of Labor, Bureau of Labor Statistics. http://www.bls.gov/oes/current/oes_nat.htm#29-0000 viewed May 5, 2014.

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: October 9, 2014.
Richard Kronick,
AHRQ Director.

[FR Doc. 2014-24509 Filed 10-15-14; 8:45 am]

BILLING CODE 4160-90-P